DEPARTMENT OF HOMELAND SECURITY

Coast Guard

33 CFR Part 100

[Docket No. USCG-2024-0742]

Special Local Regulations; Marine Event on the Willamette River, Portland, OR

AGENCY: Coast Guard, Department of Homeland Security (DHS).

ACTION: Notification of enforcement of regulation.

SUMMARY: The Coast Guard will enforce special local regulations for the Portland Dragon Boat Races from September 7 through 8, 2024 to provide for the safety of life on navigable waterways during this event. Our regulation for marine events within the Thirteenth Coast Guard District identifies the regulated area for this event in Portland, OR. During the enforcement periods, entry of vessels or persons into the regulated area is prohibited unless specifically authorized by the Captain of the Port, Sector Columbia River or the Patrol Commander. Vessels permitted to transit the area must comply with the lawful directions from the Patrol Commander or any official patrol vessel.

DATES: The regulations in 33 CFR 100.1302 will be enforced for the Portland Dragon Boat Races regulated area listed in item 8 in table 1 to § 165.1302, from 8 a.m. to 5 p.m., each day, from September 7 through 8, 2024.

FOR FURTHER INFORMATION CONTACT: If you have questions on this rule, call or email Lieutenant Commander Jesse D. Wallace, Waterways Management Division at Sector Columbia River, U.S. Coast Guard; telephone 503-572-3524, email SCRWWM@uscg.mil.

SUPPLEMENTARY INFORMATION: The Coast Guard will enforce special local regulations in 33 CFR 100.1302 for the Portland Dragon Boat Races regulated area, from 8 a.m. to 5 p.m., each day, from September 7 through 8, 2024. This action is being taken to provide for the safety of life on navigable waterways during this 2-day event. Our regulations for marine events within the Thirteenth District, § 165.1302, specifies the location of the regulated area for the Portland Dragon Boat Races, which encompasses portions of the Willamette River, extending from Tom McCall Waterfront Park between the Hawthorne and Marquam Bridges, Portland, OR.

During the enforcement periods, as reflected in § 100.1302(a) through (e), if you are the operator of a vessel in the regulated area you must comply with the lawful directions from the Patrol Commander or any official patrol vessel. Vessels may not transit the regulated areas without approval from the Patrol Commander. Vessels permitted to transit must operate at a no wake speed, in a manner which will not endanger participants or other crafts in the event. Spectators or other vessels shall not anchor, block, loiter, or impede the transit of event participants or official patrol vessels in the regulated areas during the effective dates and times, or dates and times as modified through Local Notice to Mariners, unless authorized by an official patrol vessel. In addition to this notice of enforcement in the Federal Register, the Coast Guard will provide notification of these enforcement periods via the Local Notice to Mariners and marine information broadcasts.

Dated: August 26, 2024.
J.W. Noggle,
Captain, U.S. Coast Guard, Captain of the Port, Sector Columbia River.

[FR Doc. 2024-19591 Filed 8-29-24; 8:45 am]

BILLING CODE 9110-04-P